ENVIRONMENTAL PROTECTION AGENCY

40 CFR Part 60

Standards of Performance for New Stationary Sources

CFR Correction

In Title 40 of the Code of Federal Regulations, Part 60 (§ 60.1 to end of part 60 sections), revised as of July 1, 2010, on page 60, in § 60.4(d)(2)(viii), the table entitled “Delegation Status for New Source Performance Standards for Shasta County Air Quality Management District, Siskiyou County Air Pollution Control District, South Coast Air Quality Management District, and Tehama County Air Pollution Control District” is corrected to read as follows:

§ 60.4 Address.

* * * * *

(d) * * *

(2) * * *

(viii) * * *

Delegation Status for New Source Performance Standards for Shasta County Air Quality Management District, Siskiyou County Air Pollution Control District, South Coast Air Quality Management District, and Tehama County Air Pollution Control District
| Subpart | Air Pollution Control Agency: Shasta County AQMD | Air Pollution Control Agency: Siskiyou County APCD | Air Pollution Control Agency: South Coast AQMD | Air Pollution Control Agency: Tehama County APCD
A | General Provisions | X | X | X |
D | Fossil-Fuel Fired Steam Generators Constructed After August 17, 1971 | X |  | X |
Da | Electric Utility Steam Generating Units Constructed After September 18, 1978 |  |  | X |
Db | Industrial-Commercial-Institutional Steam Generating Units |  |  | X |
Dc | Small Industrial Steam Generating Units |  |  | X |
E | Incinerators | X |  | X |
Ea | Municipal Waste Combustors Constructed After December 20, 1989 and On or Before September 20, 1994 |  |  | X |
Eb | Municipal Waste Combustors Constructed After September 20, 1994 |  |  | X |
Ec | Hospital/Medical/Infectious Waste Incinerators for Which Construction is Commenced After June 20, 1996 |  |  | X |
F | Portland Cement Plants | X |  | X |
G | Nitric Acid Plants | X |  | X |
H | Sulfuric Acid Plants | X |  | X |
I | Hot Mix Asphalt Facilities | X |  | X |
J | Petroleum Refineries | X |  | X |
Ja | Petroleum Refineries for Which Construction, Reconstruction, or Modification Commenced After May 14, 2007 |  |  |  |
K | Storage Vessels for Petroleum Liquids for Which Construction, Reconstruction, or Modification Commenced After June 11, 1973, and Prior to May 19, 1978 | X |  | X |
Ka | Storage Vessels for Petroleum Liquids for Which Construction, Reconstruction, or Modification Commenced After May 18, 1978, and Prior to July 23, 1984 |  |  | X |
Kb | Volatile Organic Liquid Storage Vessels (Including Petroleum Liquid Storage Vessels) for Which Construction, Reconstruction, or Modification Commenced After July 23, 1984 |  |  | X |
L | Secondary Lead Smelters | X |  | X |
M | Secondary Brass and Bronze Production Plants | X |  | X |
N | Primary Emissions from Basic Oxygen Process Furnaces for Which Construction is Commenced After June 11, 1973 | X |  | X |
Na | Secondary Emissions from Basic Oxygen Process Steelmaking Facilities for Which Construction is Commenced After January 20, 1983 |  |  | X |
O | Sewage Treatment Plants | X |  | X |
P | Primary Copper Smelters | X |  | X |
Q | Primary Zinc Smelters | X |  | X |
R | Primary Lead Smelters | X |  | X |
S | Primary Aluminum Reduction Plants | X |  | X |
T | Phosphate Fertilizer Industry: Wet Process Phosphoric Acid Plants | X |  | X |
U | Phosphate Fertilizer Industry: Superphosphoric Acid Plants | X |  | X |
V | Phosphate Fertilizer Industry: Diammonium Phosphate Plants | X |  | X |
W | Phosphate Fertilizer Industry: Triple Superphosphate Plants | X |  | X |
X | Phosphate Fertilizer Industry: Granular Triple Superphosphate Storage Facilities | X |  | X |
Y | Coal Preparation Plants | X |  | X |
Z | Ferroalloy Production Facilities | X |  | X |
AA | Steel Plants: Electric Arc Furnaces Constructed After October 21, 1974 and On or Before August 17, 1983 | X |  | X |
AAa | Steel Plants: Electric Arc Furnaces and Argon-Oxygen Decarburization Vessels Constructed After August 7, 1983 |  |  | X |
BB | Kraft pulp Mills | X |  | X |
CC | Glass Manufacturing Plants |  |  | X |
DD | Grain Elevators | X |  | X |
EE | Surface Coating of Metal Furniture |  |  | X |
FF | (Reserved) |  |  |  |
GG | Stationary Gas Turbines |  |  | X |
HH | Lime Manufacturing Plants | X |  | X |
KK | Lead-Acid Battery Manufacturing Plants |  |  | X |
LL | Metallic Mineral Processing Plants |  |  | X |
MM | Automobile and Light Duty Trucks Surface Coating Operations |  |  | X |
NN | Phosphate Rock Plants |  |  | X |
PP | Ammonium Sulfate Manufacture |  |  | X |
QQ | Graphic Arts Industry: Publication Rotogravure Printing |  |  | X |
RR | Pressure Sensitive Tape and Label Surface Coating Operations |  |  | X |
SS | Industrial Surface Coating: Large Appliances |  |  | X |
TT | Metal Coil Surface Coating |  |  | X |
UU | Asphalt Processing and Asphalt Roofing Manufacture |  |  | X |
VV | Equipment Leaks of VOC in the Synthetic Organic Chemicals Manufacturing Industry |  |  | X |
VVa | Equipment Leaks of VOC in the Synthetic Organic Chemicals Manufacturing Industry for Which Construction, Reconstruction, or Modification Commenced After November 7, 2006 |  |  |  |
WW | Beverage Can Surface Coating Industry |  |  | X |
XX | Bulk Gasoline Terminals |  |  |  |
AAA | New Residential Wool Heaters |  | X | X |
BBB | Rubber Tire Manufacturing Industry |  | X | X |
CCC | (Reserved) |  |  |  |
DDD | Volatile Organic Compounds (VOC) Emissions from the Polymer Manufacturing Industry |  |  | X |
EEE | (Reserved) |  |  |  |
FFF | Flexible Vinyl and Urethane Coating and Printing |  |  | X |
GGG | Equipment Leaks of VOC in Petroleum Refineries |  |  | X |
GGGa | Equipment Leaks of VOC in Petroleum Refineries for Which Construction, Reconstruction, or Modification Commenced After November 7, 2006 |  |  |  |
HHH | Synthetic Fiber Production Facilities |  |  | X |
III | Volatile Organic Compound (VOC) Emissions From the Synthetic Organic Chemical Manufacturing Industry (SOCMI) Air Oxidation Unit Processes |  |  | X |
JJJ | Petroleum Dry Cleaners |  |  | X |
KKK | Equipment Leaks of VOC From Onshore Natural Gas Processing Plants |  |  | X |
LLL | Onshore Natural Gas Processing: SO2 Emissions |  |  | X |
MMM | (Reserved) |  |  |  |
NNN | Volatile Organic Compound (VOC) Emissions From Synthetic Organic Chemical Manufacturing Industry (SOCMI) Distillation Operations |  |  | X |
OOO | Nonmetallic Mineral Processing Plants |  |  | X |
PPP | Wool Fiberglass Insulation Manufacturing Plants |  |  | X |
QQQ | VOC Emissions From Petroleum Refinery Wastewater Systems |  | X | X |
RRR | Volatile Organic Compound Emissions from Synthetic Organic Chemical Manufacturing Industry (SOCMI) Reactor Processes |  |  | X |
SSS | Magnetic Tape Coating Facilities |  | X | X |
TTT | Industrial Surface Coating: Surface Coating of Plastic Parts for Business Machines |  | X | X |
UUU | Calciners and Dryers in Mineral Industries |  |  | X |
VVV | Polymeric Coating of Supporting Substrates Facilities |  |  | X |
WWW | Municipal Solid Waste Landfills |  |  | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 |  |  | X |
EEEE | Other Solid Waste Incineration Units for Which Construction is Commenced After December 9, 2004, or for Which Modification or Reconstruction is Commenced on or After June 16, 2006 |  |  | X |
GGGG | (Reserved) |  |  |  |
IIII | Stationary Compression Ignition Internal Combustion Engines |  |  | X |
JJJJ | Stationary Spark Ignition Internal Combustion Engines |  |  |  |
KKKK | Stationary Combustion Turbines |  |  | X |

* * * * *

[FR Doc. 2011-16462 Filed 6-28-11; 8:45 am]

BILLING CODE 1505-01-D